DEPARTMENT OF VETERANS AFFAIRS

Advisory Committee on Former Prisoners of War; Notice of Meeting

The Department of Veterans Affairs (VA) gives notice under Public Law 92-463 (Federal Advisory Committee Act) that the Advisory Committee on Former Prisoners of War (FPOW) has scheduled a meeting on November 17-19, 2014, at SpringHill Suites by Marriott Hotel, 1800 Yale Avenue, Seattle, WA. The meeting will be held on November 17-19 from 9 a.m. to 4 p.m. The meeting is open to the public.

The purpose of the Committee is to advise the Secretary of Veterans Affairs on the administration of benefits under Title 38, United States Code, for Veterans who are former prisoners of war, and to make recommendations on the needs of such veterans for compensation, health care, and rehabilitation.

The Committee will hear from its Chairman and will receive briefings by VA management, from the Robert E. Mitchell Center, representatives from Veterans Benefits Administration and, and Veterans Health Administration. Tuesday, November 18th, at 3:30 p.m. The Committee will host an open public forum and FPOW panel to gain information from FPOWs about their experiences, issues, and recommendations for health benefits and claims processing. On November 19th, the Committee will draft the beginning of their 2015 recommendations and decide the location of their next meeting in the spring.

Former Prisoners of War who wish to speak at the public forum are invited to submit a 1-2 page summary of their comments at the end of the meeting for inclusion in the official meeting record. Members of the public may also submit written statements for the Committee's review to Mr. Eric Robinson, Designated Federal Officer, Advisory Committee on Former Prisoners of War, and Program Analyst, Compensation Service (212), Department of Veterans Affairs, 810 Vermont Avenue NW., Washington, DC 20420, or via email at Eric.Robinson3@va.gov. Any member of the public seeking additional information should contact Mr. Robinson via email or call (202) 443-6016.

Dated: October 27, 2014.
Jelessa Burney,
Federal Advisory Committee Management Officer.

[FR Doc. 2014-25784 Filed 10-29-14; 8:45 am]

BILLING CODE P